DEPARTMENT OF THE TREASURY

Internal Revenue Service

26 CFR Parts 1, 5f, and 46

[REG-125374-16]

RIN 1545-BN60

Guidance on the Definition of Registered Form

Correction

In proposed rule document 2017-19753, appearing on pages 43720 through 43730, in the issue of Tuesday, September 19, 2017, make the following correction:

On page 43725, in the second column, at the bottom of the column, under the heading “Partial Withdrawal of Notice of Proposed Rulemaking,” on the second line of the paragraph, “5f.163-1(b)(2)” should read “§ 5f.163-1(b)(2)”.

[FR Doc. C1-2017-19753 Filed 9-22-17; 8:45 am]

BILLING CODE 1301-00-D